DEPARTMENT OF THE TREASURY

Office of Foreign Assets Control

Notice of OFAC Sanctions Action

AGENCY: Office of Foreign Assets Control, Treasury.

ACTION: Notice.

SUMMARY: The Department of the Treasury's Office of Foreign Assets Control (OFAC) is publishing the names of three persons that have been placed on OFAC's Specially Designated Nationals and Blocked Persons List based on OFAC's determination that one or more applicable legal criteria were satisfied. All property and interests in property subject to U.S. jurisdiction of these persons are blocked, and U.S. persons are generally prohibited from engaging in transactions with them.

DATES: See Supplementary Information section.

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel.: 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treasury.gov/ofac).

Notice of OFAC Action(s)

On July 9, 2019, OFAC determined that the property and interests in property subject to U.S. jurisdiction of the following three persons are blocked under the relevant sanctions authority listed below.

Individual

1. RA'D, Muhammad Hasan (a.k.a. RAAD, Mohammad; a.k.a. RAAD, Mohammed; a.k.a. RA'AD, Muhammad; a.k.a. RA'D, Muhammad; a.k.a. RAED, Mohamad; a.k.a. RAED, Mohamed), Beirut, Lebanon; DOB 28 Aug 1955; Additional Sanctions Information—Subject to Secondary Sanctions Pursuant to the Hizballah Financial Sanctions Regulations; Gender Male; National ID No. 307321 (Lebanon) (individual) [SDGT] (Linked To: HIZBALLAH).

Designated pursuant to section 1(c) of Executive Order 13224 of September 23, 2001, “Blocking Property and Prohibiting Transactions With Persons Who Commit, Threaten to Commit, or Support Terrorism” (E.O. 13224) for acting for or on behalf of HIZBALLAH, an entity whose property and interests in property are blocked pursuant to E.O. 13224.

2. SAFA, Wafiq (a.k.a. SAFA, Wafic; a.k.a. SAFA, Wafiq 'Abd-al-Husayn; a.k.a. SAFA, Wafiq Ahmad; a.k.a. “AL-DIN, Hessam Badr”; a.k.a. “AL-ZAIN, Ali Wahib”), Lebanon; DOB 01 Sep 1960; alt. DOB 17 Mar 1965; POB Zibdin, Lebanon; alt. POB Zubaydah al-Jonubi, Lebanon; alt. POB Rayhan, Lebanon; Additional Sanctions Information—Subject to Secondary Sanctions Pursuant to the Hizballah Financial Sanctions Regulations; Gender Male; National ID No. 494606 (Lebanon); alt. National ID No. 000012505210 (Lebanon) (individual) [SDGT] (Linked To: HIZBALLAH).

Designated pursuant to section 1(c) of E.O. 13224 for acting for or on behalf HIZBALLAH, an entity whose property and interests in property are blocked pursuant to E.O. 13224.

3. SHERRI, Amin (a.k.a. CHERRI, Amin; a.k.a. SHARI, 'Amin Abi; a.k.a. SHARY, Amin Muhammad; a.k.a. SHIRRI, Ameen; a.k.a. SHIRRI, Amin; a.k.a. SHRI, Amin), Beirut, Lebanon; DOB 02 Aug 1957; Additional Sanctions Information—Subject to Secondary Sanctions Pursuant to the Hizballah Financial Sanctions Regulations; Gender Male; National ID No. 380858 (Lebanon) (individual) [SDGT] (Linked To: HIZBALLAH).

Designated pursuant to section 1(c) of E.O. 13224 for acting for or on behalf HIZBALLAH, an entity whose property and interests in property are blocked pursuant to E.O. 13224.

Dated: July 9, 2019.
Andrea Gacki,
Director, Office of Foreign Assets Control.

[FR Doc. 2019-14889 Filed 7-12-19; 8:45 am]

BILLING CODE 4810-AL-P